NATIONAL SCIENCE FOUNDATION

Sunshine Act Meetings; National Science Board

The National Science Board's Task Force on Administrative Burdens, pursuant to NSF regulations (45 CFR Part 614), the National Science Foundation Act, as amended (42 U.S.C. 1862n-5), and the Government in the Sunshine Act (5 U.S.C. 552b), hereby gives notice in regard to the scheduling of a teleconference for the transaction of National Science Board business and other matters specified, as follows:

DATE & TIME: Wednesday, December 11, 2013, 6:00 p.m.-7:00 p.m. e.s.t.

SUBJECT MATTER: A discussion of the results of the Task Force's Request for Information, comment from agencies and organizations, and the content and timeline of the final report and recommendations.

STATUS: Open

This meeting will be held by teleconference. A public listening line will be available. Members of the public must contact the Board Office [call 703-292-7000 or send an email message to nationalsciencebrd@nsf.gov] at least 24 hours prior to the teleconference for the public listening number. Please refer to the National Science Board Web site www.nsf.gov/nsb for additional information and schedule updates (time, place, subject matter or status of meeting) which may be found at http://www.nsf.gov/nsb/notices. Point of contact for this meeting is Lisa Nichols or John Veysey.

Ann Bushmiller,
Senior Counsel to the National Science Board.

[FR Doc. 2013-27384 Filed 11-12-13; 4:15 pm]

BILLING CODE 7555-01-P